DEPARTMENT OF COMMERCE

Patent and Trademark Office

Customer Input: United States Patent and Trademark Office Customer Surveys

ACTION: Proposed collection; comment request.

SUMMARY: The United States Patent and Trademark Office (USPTO), as part of its continuing effort to reduce paperwork and respondent burden, invites the general public and other Federal agencies to take this opportunity to comment on the continuing and proposed information collection, as required by the Paperwork Reduction Act of 1995, Public Law 104-13 (44 U.S.C. 3506(c)(2)(A)).

DATES: Written comments must be submitted on or before August 12, 2002.

ADDRESSES: Direct all written comments to Susan K. Brown, Records Officer, Office of Data Management, Data Administration Division, USPTO, Suite 310, 2231 Crystal Drive, Washington, DC 20231; by telephone 703-308-7400; by e-mail at susan.brown@uspto.gov; or by facsimile at 703-308-7400.

FOR FURTHER INFORMATION CONTACT: Requests for additional information should be directed to the attention of Cathy Smith, Program Analyst, Center for Quality Services, Crystal Park 1—Suite 812, 2011 Crystal Drive, Arlington, VA 22202; by telephone at 703-305-4211; by facsimile at 703-308-8002; or by e-mail to cathy.smith@uspto.gov.

SUPPLEMENTARY INFORMATION:

I. Abstract

This is a generic clearance for an undefined number of voluntary surveys that the United States Patent and Trademark Office (USPTO) may conduct over the next three years. These surveys may be conducted in a variety of forms, such as telephone surveys, face-to-face interviews, mail surveys, questionnaires and customer surveys, comment cards, and focus groups.

The USPTO is currently investigating the feasibility of electronic surveys for all of the customer satisfaction surveys that the USPTO conducts. At this time, customers can respond only to the Annual Patent and Trademark Customer Satisfaction surveys electronically.

In the past year there has been an increase in the use of electronic transmissions throughout the USPTO, with various offices assessing their specific services through customer surveys. This is part of a broader agency initiative to improve customer satisfaction with the USPTO. Although customers do have the option to respond to the Annual Customer Satisfaction surveys electronically, the USPTO may not be able to collect other surveys electronically because the agency does not collect e-mail addresses in the databases that support the external surveys. Currently, the USPTO is in the process of developing an electronic customer database.

A brief description of the expected methodology for the various survey vehicles is provided below:

For telephone surveys, the USPTO calls the respondent and either surveys the respondent over the phone or schedules an appointment and faxes the survey questions to the respondent. In addition, a script is prepared for the actual telephone interview so that each telephone survey is conducted in the same manner. At this time, the USPTO is unable to predict the actual number of telephone surveys that may be conducted. The USPTO estimates that 400 responses will be received from telephone surveys, for an estimated burden of 100 hours.

For possible face-to-face interviews, the USPTO uses a variety of delivery mechanisms to try to meet our customers' needs. A script is prepared so that each respondent is asked the same questions. There also may be other occasional uses of face-to-face interviews to assess customer satisfaction. The USPTO estimates that 200 responses will be received from face-to-face interviews, for an estimated burden of 50 hours.

The USPTO also mails surveys to respondents with instructions to mail the completed surveys back to the USPTO in the self-addressed and stamped envelope provided with the survey. In general, the USPTO follows up non-responses by mailing reminders and through phone contacts. At this time, the USPTO is unable to predict the actual number of survey mailings that may be conducted. In the past year there has been an increase in the use of electronic transmissions throughout the USPTO in assessing specific services through customer surveys. This accounts for an increase in the estimated number of responses through this category of surveys since the last submission. The USPTO estimates that 5,000 responses will be received from survey mailings. The USPTO estimates that 3,500 of these will be submitted electronically, for an estimated burden of 875 hours, and that the remaining 1,500 paper surveys will be mailed to the USPTO, for an estimated burden of 750 hours. The overall burden for the mail surveys is 1,625 hours.

The USPTO uses questionnaires and customer surveys to survey users of USPTO's various services or to survey attendees at various conferences, among other items. The USPTO provides survey forms which are either handed to the respondents by the staff or left for attendees to pick up as they enter or exit from various functions. If the completed surveys are not handed directly back to a staff member, the respondents are instructed to drop off their surveys or mail them back to the USPTO. At this time, the USPTO is unable to predict the actual number of questionnaires and customer surveys that may be conducted. The USPTO estimates that 1,800 responses will be received from questionnaires and customer surveys, for an estimated burden of 144 hours.

Another survey instrument which the USPTO frequently uses is customer comment cards. These comment cards are pre-paid and return-addressed postage cards which the respondent can mail back to the USPTO. At this time, the USPTO is unable to predict the actual number of questionnaires and customer surveys that may be conducted. The USPTO estimates that 2,000 responses will be received from customer surveys and questionnaires, for an estimated burden of 160 hours.

The USPTO frequently uses focus groups as a survey instrument. The USPTO asks groups of its customers to get together and discuss issues of mutual interest. Many times the results of these sessions are used to help make improvements to USPTO operations or to recommend that certain issues be studied further. There has been an increase in assessing the needs of our external customers through direct customer contact. This is part of a broader agency initiative to compile data in lieu of paper surveys and accounts for the increase in estimated responses from focus groups since the last submission. The USPTO estimates that 600 responses will be received from focus groups, for an estimated burden of 1,200 hours.

These various survey vehicles are designed to obtain customer feedback regarding products, services, and related service standards of the USPTO. At this time, the USPTO is unable to state precisely which survey vehicles will be used during the renewal period. As the USPTO's survey needs are determined, the USPTO will submit the specific survey instrument for approval.

II. Method of Collection

These surveys will be conducted by telephone and face-to-face interviews, mailings, questionnaires and customer surveys, comment cards, and focus groups. The USPTO is also exploring the possibility of using the USPTO Web site to conduct customer surveys. Respondents currently have the option to respond electronically to the Annual Customer Satisfaction surveys through the USPTO website. A random sample is used to collect the data. Statistical methods will be followed.

III. Data

OMB Number: 0651-0038.

Form Number(s): Depending on the individual situation, the USPTO may have survey and questionnaire forms and comment cards. The USPTO is exploring the feasibility of using electronic surveys, so this information collection may also include electronic forms in the future.

Type of Review: Revision of a currently approved collection.

Affected Public: Individuals or households; business or other for-profit; not-for-profit institutions; farms; the Federal Government; and state, local or tribal governments.

Estimated Number of Respondents: 10,000 responses per year.

Estimated Time Per Response: The USPTO estimates that it will take approximately 15 minutes to complete telephone surveys and face-to-face interviews, 5 minutes to complete questionnaires, customer surveys, and comment cards, and 2 hours to conduct a focus group. The USPTO estimates that it will take approximately 15 minutes to complete the Annual Patent and Trademark Customer Satisfaction surveys electronically, and that it will take approximately 30 minutes to complete the paper versions of these same surveys.

Estimated Total Annual Respondent Burden Hours: 3,279 hours per year.

Estimated Total Annual Respondent Cost Burden: $644,324. The USPTO believes that both professionals and para-professionals will complete these surveys, at a rate of 75% of the current professional rate of $252 per hour and 25% of the para-professional rate of $30 per hour. Using a combination of these rates, the USPTO is using an hourly rate of $196.50 to calculate the respondent costs. The USPTO estimates $644,324 per year for salary costs associated with respondents.

Item | Estimated time for response | Estimated annual responses | Estimated annual burden hours
Telephone Surveys | 15 minutes | 400 | 100
Face-to-Face Interviews | 15 minutes | 200 | 50
Mail Surveys (Annual Patent/Trademark Customer Satisfaction Surveys) | 30 minutes | 1,500 | 750
Electronic Patent/Trademark Customer Satisfaction Surveys | 15 minutes | 3,500 | 875
Questionnaires and Customer Surveys | 5 minutes | 1,800 | 144
Comment Cards | 5 minutes | 2,000 | 160
Focus Groups | 2 hours | 600 | 1,200
Total |  | 10,000 | 3,279

Note: The burden figures shown in the table above are estimates based on the types of surveys that the USPTO may be using during the next three years. At this time, the USPTO cannot predict which and how many surveys will be conducted. Depending on the number of surveys that the USPTO actually conducts, it is possible that the burden hours could decrease from the totals shown in the table.

Estimated Total Annual Nonhour Respondent Cost Burden: $0. (There are no capital start-up or maintenance costs associated with this information collection.)

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: June 7, 2002.
Susan K. Brown,
Records Officer, USPTO, Office of Data Management, Data Administration Division.

[FR Doc. 02-14899 Filed 6-12-02; 8:45 am]

BILLING CODE 3510-16-P